DEPARTMENT OF HOMELAND SECURITY

U.S. Customs and Border Protection

Extension of the Section 321 Data Pilot

AGENCY: U.S. Customs and Border Protection; Department of Homeland Security.

ACTION: General notice.

SUMMARY: This notice announces that U.S. Customs and Border Protection (CBP) is extending the Section 321 Data Pilot through August 2023.

DATES: The voluntary pilot initially began on August 22, 2019, and will run for an additional 24 months through August 2023. At this time, the pilot is limited to a maximum of nine participants.

ADDRESSES: Prospective pilot participants should submit an email to ecommerce@cbp.dhs.gov. In the subject line of your email please state “Application for Section 321 Data Pilot.” For information on what to include in the email, see section II.D (Application Process and Acceptance) of the notice published in the Federal Register on July 23, 2019 (84 FR 35405).

FOR FURTHER INFORMATION CONTACT: Laurie Dempsey, Director, IPR & E-Commerce Division at laurie.b.dempsey@cbp.dhs.gov or 202-615-0514 and Daniel Randall, Director, Manifest & Conveyance Security at daniel.j.randall@cbp.dhs.gov or 202-344-3282.

SUPPLEMENTARY INFORMATION:

I. Background

Section 321 of the Tariff Act of 1930, as amended, provides for an exemption from duty and taxes for shipments of merchandise imported by one person on one day having an aggregated fair retail value in the country of shipment not less than $800. 19 U.S.C. 1321(a)(2)(C). On July 23, 2019, CBP published a general notice in the Federal Register (84 FR 35405) (hereafter referred to as the “July 2019 notice”) introducing a voluntary Section 321 Data Pilot. Pilot participants agree to transmit electronically certain data in advance for shipments potentially eligible for release under Section 321 of the Tariff Act of 1930 (“section 321 shipments”). The data pilot tests the feasibility of collecting data elements, beyond those required by current regulations, and from non-traditional entities, such as online marketplaces. The purpose of this data pilot is to improve CBP's ability to target efficiently and assess the security risks posed by section 321 shipments.

The July 2019 notice provided a comprehensive description of the program and its purpose, eligibility requirements, and the application process for participation. 84 FR 35405. Specifically, the July 2019 notice stated that the data pilot applied only to section 321 shipments arriving by air, truck, or rail and was set to conclude on August 22, 2020. 84 FR 35405. On December 9, 2019, CBP published another notice in the Federal Register (84 FR 67279) (hereafter referred to as the “December 2019 notice”). This notice expanded the pilot to include section 321 shipments arriving by ocean and international mail covered in 19 CFR part 145, extended the pilot through August 2021, and provided clarification with respect to the misconduct portion of the data pilot. 84 FR 67279.

II. Extension of the Section 321 Data Pilot Period

CBP will extend the test for another two years to continue further evaluation of the 321 Data Pilot program and the risks associated with section 321 shipments. The pilot will now run through August 2023.

III. Applicability of Initial Test Notice

All provisions found in the July 2019 notice remain applicable, subject to the time period extension herein and the amendments provided in the December 2019 notice. Furthermore, CBP reiterates that it is not waiving any regulations for purposes of the pilot. All existing regulations continue to apply to pilot participants.

IV. Signing Authority

Troy A. Miller, the Acting Commissioner, having reviewed and approved this document, is delegating the authority to electronically sign this document to Robert F. Altneu, who is the Director of the Regulations and Disclosure Law Division for CBP, for purposes of publication in the Federal Register.

Dated: August 25, 2021.
Robert F. Altneu,
Director, Regulations & Disclosure Law Division, Regulations & Rulings, Office of Trade, U.S. Customs and Border Protection.

[FR Doc. 2021-18655 Filed 8-27-21; 8:45 am]

BILLING CODE 9111-14-P